NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 9, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Larry Baume, Acting Director, Life Cycle Management Division (NWML), National Archives and Records Administration, 8601 Adelphi Road, College Park, MD 20740-6001. Telephone: 301-837-1505. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Bureau of Industry and Security (N1-476-02-1, 9 items, 5 temporary items). Working papers, compliance case files, appeals files, and tracking records accumulated by the Under Secretary. Also included are electronic copies of records created using electronic mail and word processing. Proposed for permanent retention are recordkeeping copies of speeches, appointment books, travel files, and subject files.

2. Department of Commerce, Bureau of Industry and Security (N1-476-02-2, 11 items, 8 temporary items). Records of the Office of Congressional and Public Affairs, including such record series as hearing and subject files, chronological files, biographies and photographs, working papers, duplicate copies of publications, and records relating to the preparation of publications. Also included are electronic copies of records created using electronic mail and word processing. Proposed for permanent retention are recordkeeping copies of such files as press releases, audiovisual records, and speeches and statements.

3. Department of Commerce, National Oceanic and Atmospheric Administration (N1-370-01-4, 2 items, 1 temporary item). Electronic copies of documents created using electronic mail and word processing that relate to measures taken to minimize the harmful effects of actions taken by agencies on designated Essential Fish Habitats. Proposed for permanent retention are recordkeeping copies of these files.

4. Department of Defense, Defense Contract Audit Agency (N1-372-02-4, 3 items, 3 temporary items). Records pertaining to hand receipts issued for the use of agency property. Included are original receipts issued to employees and electronic copies of documents created using electronic mail and word processing.

5. Department of Defense, Defense Contract Audit Agency (N1-372-02-5, 2 items, 2 temporary items). Records pertaining to reports of surveys maintained by the office being reviewed. Included are requests for corrective action and subsequent responses to surveys. Also included are documents relating to planning and completing visits to Field Audit Offices to render assistance or to conduct evaluations. This schedule modifies the disposition instructions for these files, which were previously approved for disposal.

6. Department of Defense, Defense Contract Audit Agency (N1-372-02-9, 3 items, 3 temporary items). Records pertaining to obtaining and using carriers for the transmission of official mail. Included are documents relating to estimating and requesting funding, cost information, and agreements as well as electronic copies of documents created using electronic mail and word processing.

7. Department of Defense, Defense Threat Reduction Agency (N1-374-02-4, 5 items, 5 temporary items). Records relating to the operation of the Defense Threat Reduction Agency Information Analysis Center. Included are records of contracted studies, analyses, and other projects, operations and maintenance reports, and performance and cost reports. Also included are electronic copies of documents created using electronic mail and word processing.

8. Department of Defense, Defense Threat Reduction Agency (N1-374-02-5, 12 items, 8 temporary items). Records relating to occupational safety and health. Included are such records as safety and health plans, safety surveys and inspections, safety awareness and protection training materials, and safety and accident reports. Also included are electronic copies of documents created using electronic mail and word processing. Proposed for permanent retention are recordkeeping copies of safety surveys and assessments, training materials pertaining to chemical, biological, and nuclear materiel, and accident and incident reports related to exposure to ionizing radiation or to chemical or biological agents.

9. Department of Defense, Defense Threat Reduction Agency (N1-374-02-7, 12 items, 12 temporary items). Records relating to the operation of the Defense Nuclear Weapons School. Included are such records as course curriculum approvals, accreditations, class lists, enrollment and completion statistics, and schedules of classes as well as a database containing information concerning courses and course participants. Also included are electronic copies of documents created using electronic mail and word processing.

10. Department of Housing and Urban Development, Office of Public and Indian Housing (N1-207-02-5, 23 items, 23 temporary items). Special Applications Center (SAC) application case files pertaining to requests for approval of such actions as the demolition of properties that have received agency funding, the conversion of residents from low-rent project-based assistance to tenant-based assistance, the sale of housing units to residents, and the taking of a project by eminent domain under state law. Electronic copies of records created using electronic mail and word processing are included.

11. Department of Transportation, Research and Special Programs Administration (N1-467-01-1, 4 items, 4 temporary items). Office of Hazardous Materials Planning and Analysis grant application files that relate to training public employees for emergency response. Records include general grant guidance, progress reporting information, applications for assistance, and administrative certification documents. The schedule applies to records created and maintained in paper and to optical disk copies of grant files. Also included are electronic copies of records created using electronic mail and word processing. Files that deal with historically significant matters will be brought to NARA's attention for appraisal on a case-by-case basis.

12. Central Intelligence Agency, Agency-wide (N1-263-02-2, 5 items, 5 temporary items). Copies of documents sent to or received from other government agencies for declassification review, a database used to track documents and referrals, and forms certifying declassification decisions.

13. Environmental Protection Agency, Office of Air and Radiation (N1-412-02-9, 2 items, 2 temporary items). Documents related to manufacturers' applications for emission certification under the Clean Air Act for motor vehicles, locomotives, and non-road mobile sources. Records contain technical product descriptions, test results, copies of certificates of conformity, notices of violations, and other related documents. Also included are electronic copies of records created using electronic mail and word processing.

14. Federal Reserve System, Board of Governors (N1-82-02-3, 48 items, 36 temporary items). Records created in support of the Board of Governors in such functional areas as public affairs, congressional liaison, corporate secretary activities, and legal advisory matters. Included are such records as administrative manuals, policy change notices, telephone logs, routine correspondence, congressional subject files, and legal opinion memorandums. Also included are electronic copies of documents created using electronic mail and word processing. Proposed for permanent retention are such records as minutes of Board meetings, Board policy statements, press releases, speeches and testimony, and official correspondence signed by the Board of Governors. This schedule authorizes the agency to apply the proposed disposition instructions to records in all media.

15. Office of Navajo and Hopi Indian Relocation, Administrative Services Division (N1-220-02-11, 81 items, 50 temporary items). Electronic data of the Client Information System, including counseling, pre-move, and post-move relocation operations data, and program analysis data. Also included are queries and program reports and daily, weekly, and six-week full and incremental backups. Proposed for permanent retention are databases documenting such matters as client and joint use areas, client eligibility, Hopi partitioned land residency and certifications, and new lands operations. The related system documentation is also proposed for permanent retention.

Dated: July 17, 2002.
Michael J. Kurtz,
Assistant Archivist for Record Services—Washington, DC.

[FR Doc. 02-18674 Filed 7-23-02; 8:45 am]

BILLING CODE 7515-01-P